DEPARTMENT OF ENERGY

Federal Energy Regulatory Commission

[Project No. 14803-004]

PacifiCorp, Klamath River Renewal Corporation, and the States of California and Oregon; Notice of Application for Transfer of License, Soliciting Comments, Motions To Intervene, and Protests

Take notice that the following hydroelectric application has been filed with the Commission and is available for public inspection:

a. Application Type: Transfer of Project License.

b. Project No: 14803-004.

c. Date Filed: January 13, 2021.

d. Applicant: PacifiCorp, Klamath River Renewal Corporation, and the States of California and Oregon.

e. Name of Project: Lower Klamath Hydroelectric Project.

f. Location: The project is located on the Klamath River in Klamath County, Oregon and Siskiyou County, California. The project includes federal lands managed by the U.S. Bureau of Land Management.

g. Filed Pursuant to: Federal Power Act, 16 U.S.C. 791a-825r.

h. Applicant Contact: For transferor—PacifiCorp: Ryan Flynn, Chief Legal Officer, PacifiCorp, 825 NE Multnomah Street, Suite 2000, Portland, OR 97232, ryan.flynn@pacificorp.com, 503-813-5865.

For transferees—Klamath River Renewal Corporation: Mark Bransom, Chief Executive Director, Klamath River Renewal Corporation, 2001 Addison Street, Suite 317, Berkeley, CA 94704, (415) 820-4441, info@klamathrenewal.org.

State of California: Joshua E. Adrian, Duncan Weinberg Genzer & Pembroke, P.C., 1667 K Street NW, Suite 700, Washington, DC 20006, jea@dwgp.com, 202-791-3590.

State of Oregon: Anika E. Marriott, Sr. Assistant Attorney General, Oregon Department of Justice, 1162 Court Street NE, Salem, OR 97301, Anika.E.Marriott@doj.state.or.us, 503-947-4520.

i. FERC Contact: Diana Shannon, (202) 502-6136, diana.shannon@ferc.gov.

j. Deadline for filing comments, motions to intervene, and protests: March 19, 2021.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket numbers P-14803-004. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: On January 13, 2021, PacifiCorp (transferor) and the Klamath River Renewal Corporation (Renewal Corporation) and the States of California and Oregon (transferees) jointly filed an application to transfer the license for the Lower Klamath Project No. 14803 from PacifiCorp to the Renewal Corporation and the States of California and Oregon as co-licensees. PacifiCorp and the transferees jointly propose to transfer the license to Renewal Corporation and the States of California and Oregon for the purpose of surrendering, decommissioning, and removing the project dams, if approved separately by the Commission. The project includes four developments: J.C. Boyle, Copco No. 1, Copco No. 2, and Iron Gate.

On July 16, 2020, the Commission issued an order approving a partial transfer of the license for the project from PacifiCorp to PacifiCorp and the Renewal Corporation as co-licensees. PacifiCorp, 172 FERC ¶ 61,062 (2020). The order was contingent on PacifiCorp remaining on the license as a co-licensee and required compliance with certain conditions before it would take effect. In the January 13 filing, PacifiCorp and the Renewal Corporation state that they do not accept their status as co-licensees under the July 16 order.

On November 17, 2020, in a separate proceeding, PacifiCorp and the Renewal Corporation filed an amended application to surrender the license and decommission the Lower Klamath Project. Decommissioning activities would include the full removal of the four developments. The Commission issued notice of that application on December 16, 2020, soliciting comments, motions to intervene, and protests in the surrender proceeding.

In the January 13 filing, the applicants request that, in any order approving the transfer, the Commission establish an extended period of time—until 30 days following any Commission order approving the surrender application—for the transferees to accept the license transfer and their co-licensee status. As a result, PacifiCorp would remain as the sole licensee for the Lower Klamath Project while the Commission considers what action to take on the surrender application.

l. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: February 17, 2021.
Kimberly D. Bose,
Secretary.

[FR Doc. 2021-03677 Filed 2-22-21; 8:45 am]

BILLING CODE 6717-01-P